DEPARTMENT OF JUSTICE

Notice of Proposed Consent Decree Under the Clean Air Act

Notice is hereby given that on March 21, 2011, a proposed Consent Decree in United States v. Mariana Acquisition Corp., Civil Action No. CV 11-0006, was lodged with the United States District Court for the Northern Marianas Islands.

The Consent Decree in this Clean Air Act enforcement action resolves allegations by the Environmental Protection Agency, asserted in a complaint filed together with the Consent Decree, under Section 113(b) of the Clean Air Act, 42 U.S.C. 7413(b), for alleged environmental violations at Mariana Acquisition Corporation's bulk gasoline terminal in Saipan, Northern Marianas Islands. The violations include failing to install a vapor collection system for collecting total volatile organic compounds (“VOCs”) displaced from tank trucks during product loading, as required by regulations promulgated under the New Source Performance Standards of the Clean Air Act, 42 U.S.C. 7411(b)(1)(B), and VOC emissions exceeding those permitted by the regulations. The proposed Consent Decree would require defendant to install the required vapor collection system, limit emissions of volatile organic compounds, and pay $826,000 in civil penalties to the United States.

The Department of Justice will receive comments relating to the proposed Consent Decrees for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to the matter as United States v. Mariana Acquisition Corp., DOJ Ref. No. 90-5-2-1-09869.

The proposed Consent Decree may be examined at the following Regional Office of the United States Environmental Protection Agency: Region 9, 75 Hawthorne Street, San Francisco, California, 94105. The Consent Decree may also be examined at the Office of the United States Attorney, Sirena Plaza, Suite 500, 108 Hernan Cortez Avenue, Hagatna, Guam 96910, and also at 3rd Floor, Horiguchi Building, P.O. Box 500377, Saipan, MP 96950.

During the public comment period, the proposed agreements may also be examined on the following Department of Justice Web site: http://www.usdoj.gov/enrd/Consent_Decrees.html. Copies of the proposed agreements may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting from the Consent Decree Library a copy of the consent decree for United States v. Mariana Acquisition Corp., Civil Action No. CV 11-0006 (D. Northern Marianas), please enclose a check in the amount of $7.50 (25 cents per page reproduction cost) payable to the U.S. Treasury.

Henry Friedman,
Assistant Section Chief, Environmental Enforcement Section, Environment and Natural Resources Division.

[FR Doc. 2011-7399 Filed 3-29-11; 8:45 am]

BILLING CODE 4410-15-P